DEPARTMENT OF ENERGY

Federal Energy Regulatory Commission

[Docket No. RP08-560-000]

G4 Energy, LLC, Complainant, v. Cheyenne Plains Gas Company, LLC, Respondent; Notice of Complaint

September 3, 2008.

Take notice that on August 29, 2008, pursuant to section 206 of the Rules of Practice and Procedure, 18 CFR 385.206 and section 5 of the Natural Gas Act, 15 U.S.C. 717d, G4 Energy, LLC (Complainant) filed a formal complaint requesting fast track processing against Cheyenne Plains Gas Company, LLC (Respondent) alleging that, Respondent violated the Natural Gas Act, Commission regulations, and Respondent's FERC Gas Tariff by: (1) Failing to invalidate the results of an open season that stated the 90-plus year term for which the capacity was being offered in a manner readily susceptible to an interpretation not intended by the Respondent; and (2) failing to hold a second open season that provided all prospective shippers an equal opportunity to bid based on a posting that clearly detailed the terms and conditions of the unsubscribed capacity being offered. Complainant requests, inter alia, that the Commission void Respondent's previous open season and order them to conduct a new open season in compliance with their Tariff and Commission regulations.

The Complainant certifies that a copy of the complaint has been served on the contacts for the Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on September 18, 2008.

Kimberly D. Bose,
Secretary.

[FR Doc. E8-20857 Filed 9-8-08; 8:45 am]

BILLING CODE 6717-01-P